DEPARTMENT OF ENERGY

Federal Energy Regulatory Commission

[Docket No. ER00-1026-001]

Indianapolis Power&Light Company; Notice of Filing

April 21, 2000.

Take notice that on March 27, 2000, Indianapolis Power & Light Company (IPL) tendered for filing its compliance filing in the above-referenced docket.

Copies of this filing were served on the Indiana Utility Regulatory Commission and others as provided on the official service list.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before May 1, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-10465 Filed 4-26-00; 8:45 am]

BILLING CODE 6717-01-M